ENVIRONMENTAL PROTECTION AGENCY

[FRL-10175-01-OW]

Notice of Public Meeting Webinar of the Environmental Financial Advisory Board (EFAB)

AGENCY: Environmental Protection Agency (EPA).

ACTION: Notice of public meeting webinar.

SUMMARY: The Environmental Protection Agency's (EPA) Environmental Financial Advisory Board (EFAB) will hold a public meeting webinar. The purpose of the webinar will be for the Opportunity Zones and Pollution Prevention Workgroups to present their draft deliverables to EFAB and solicit feedback on the drafts. The meeting will be shared in real-time via webinar and public comments may be provided in writing in advance.

DATES: The webinar will be held on Tuesday, September 20, 2022 from 1 p.m. to 2:30 p.m. (Eastern Time).

ADDRESSES: The meeting will be conducted via webinar only and is open to the public. Interested persons must register in advance at the weblink below to access the meeting.

FOR FURTHER INFORMATION CONTACT: Ed Chu, the Designated Federal Officer, via telephone/voice mail at (913) 551-7333 or email to efab@epa.gov. General information concerning the EFAB is available at https://www.epa.gov/waterfinancecenter/efab.

SUPPLEMENTARY INFORMATION:

Background: The EFAB is an EPA advisory committee chartered under the Federal Advisory Committee Act (FACA), 5 U.S.C. app. 2, to provide advice and recommendations to EPA on innovative approaches to funding environmental programs, projects, and activities. Administrative support for the EFAB is provided by the Water Infrastructure and Resiliency Finance Center within EPA's Office of Water. Pursuant to FACA and EPA policy, notice is hereby given that the EFAB will hold a public webinar briefing. The purpose of the webinar will be for members of the EFAB to hear from the Opportunity Zones and Pollution Prevention Workgroups on the draft deliverable products and provide initial feedback on the drafts. The final Opportunity Zones and Pollution Prevention Workgroups deliverables will be voted on by EFAB during a future public meeting. The webinar is open to the public, but no oral public comments will be accepted during the briefing. Written public comments relating to the workgroups should be provided in accordance with the instructions below on written statements.

Registration for the Meeting: Register for the meeting at https://epaefabworkgroupswebinar.eventbrite.com.

Availability of Meeting Materials: Meeting materials (including the meeting agenda and briefing materials) will be available on EPA's website at https://www.epa.gov/waterfinancecenter/efab.

Procedures for Providing Public Input: Public comment for consideration by EPA's federal advisory committees has a different purpose from public comment provided to EPA program offices. Therefore, the process for submitting comments to a federal advisory committee is different from the process used to submit comments to an EPA program office. Federal advisory committees provide independent advice to EPA. Members of the public can submit comments on matters being considered by the EFAB for consideration by members as they develop their advice and recommendations to EPA.

Written Statements: Written statements for the webinar should be received by September 15, 2022, so that the information can be made available to the EFAB for its consideration. Written statements should be sent via email to efab@epa.gov. Members of the public should be aware that their personal contact information, if included in any written comments, may be posted to the EFAB website. Copyrighted material will not be posted without explicit permission of the copyright holder.

Accessibility: For information on access or services for individuals with disabilities or to request accommodations for a disability, please register for the webinar and list any special requirements or accommodations needed on the registration form at least 10 business days prior to the meeting to allow as much time as possible to process your request.

Andrew D. Sawyers,
Director, Office of Wastewater Management.

[FR Doc. 2022-18890 Filed 8-31-22; 8:45 am]

BILLING CODE 6560-50-P